DEPARTMENT OF COMMERCE

National Institute of Standards and Technology

Agency Information Collection Activities; Submission to the Office of Management and Budget (OMB) for Review and Approval; Comment Request; Generic Clearance for Community Resilience Data Collections

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 10, 2025.

ADDRESSES: Interested persons are invited to submit written comments by mail to Maureen O'Reilly, Management Analyst, NIST, 100 Bureau Drive, MS 1710, Gaithersburg, MD 20899 or by email to PRANIST@nist.gov. Please reference OMB Control Number 0693-0078 in the subject line of your comments. Do not submit Confidential Business Information or otherwise sensitive or protected information.

FOR FURTHER INFORMATION CONTACT: Requests for additional information or specific questions related to collection activities should be directed to Jennifer Helgeson, Research Economist, NIST, 100 Bureau Drive, MS 8603, Gaithersburg, MD 20899, telephone 240-672-2575, or jennifer.helgeson@nist.gov.

SUPPLEMENTARY INFORMATION:

I. Abstract

Through acts such as the National Construction Safety Team (NCST) Act, the National Windstorm Impact Reduction (NWIR) Act, the National Earthquake Hazard Reduction Act, and the NIST Organic Act, NIST conducts research and develops guidance and other related tools to promote and enhance the safety and well-being of people in the face of a hazard event. With this in mind, NIST proposes to conduct a number of data collection efforts within the topic areas of disaster and failure studies and community resilience, including studies of specific disaster events (e.g., wildfire, urban fire, structure collapse, hurricane, earthquake, tornado, and flood events), assessments of community resilience and sustainability, and evaluations of the usability and utility of NIST community resilience guidance or other products.

These data collection efforts may be either qualitative or quantitative in nature or may consist of mixed methods. Additionally, data may be collected via a variety of means, including but not limited to electronic or social media, direct or indirect observation (i.e., in person, video and audio collections), interviews, questionnaires, and focus groups. NIST will limit its inquiries to data collections that solicit strictly voluntary opinions or responses. The results of the data collected will be used to decrease negative impacts of disasters on society, and, in turn, increase community resilience within the U.S. communities. Steps will be taken to protect confidentiality of respondents in each activity covered by this request.

This notice pertains to an extension of a previously approved submission. The NIST Engineering Laboratory utilizes this clearance to conduct research in support of topic areas of disaster and failure studies and community resilience (including studies of specific disaster events such as wildfire, urban fire, structure collapse, hurricane, earthquake, tornado, and flood events).

NIST requests maintaining the ICR Annual Response allotment at 25,000 Responses; and the ICR Annual Hours allotment at 18,000. NIST assures that no changes will be made to any of the individual information collection requests that have been approved for use.

II. Method of Collection

NIST will collect this information by electronic means, when possible, as well as by mail, fax, telephone, technical discussions, and in-person interviews. NIST may also utilize observational techniques to collect this information.

III. Data

OMB Control Number: 0693-0078.

Form Number(s): None.

Type of Review: Regular submission, extension of a current information collection.

Affected Public: Individuals or households; first responders; weather forecasters; members of the media; water, power, transportation, and communications infrastructure operators; businesses or other for-profit organizations; not-for-profit institutions; State, local or tribal government; Federal government; Standards-making bodies; Universities.

Estimated Number of Respondents: 25,000.

Estimated Time per Response: Varied, dependent upon the data collection method used. The possible response time to complete a questionnaire may be 15 minutes or 2 hours to participate in an interview.

Estimated Total Annual Burden Hours: 18,000.

Estimated Total Annual Cost to Public: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-06179 Filed 4-10-25; 8:45 am]

BILLING CODE 3510-13-P